FEDERAL COMMUNICATIONS COMMISSION

[OMB 3060-0944; OMB 3060-1156; FR ID 329893]

Information Collections Being Reviewed by the Federal Communications Commission

AGENCY: Federal Communications Commission.

ACTION: Notice and request for comments.

SUMMARY: As part of its continuing effort to reduce paperwork burdens, as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before April 13, 2026. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-0944.

Title: Cable Landing License Act, Executive Order 10530, 47 CFR 1.70000-1.70024, 1.40001, 1.40003.

Form Number: SCL-LIC—Submarine Cable Landing License Application (revising form); SCL-STA—Submarine Cable Landing License Special Temporary Authority (revising form); SCL-FCN—Submarine Cable Landing License Foreign Carrier Affiliation (revising form); SCL-ASG/TC—Submarine Cable Landing License Assignment or Transfer of Control of License (revising form); SCL-LPN—Submarine Cable Landing License Landing Point Notification (revising form); SCL-MOD—Submarine Cable Landing License Modification (revising form); SCL-RWL—Submarine Cable Landing License Renewal (revising form); Foreign Adversary Annual Report (new form); One-Time Covered List Certification (new form); One-Time Cybersecurity and Physical Security Certification (new form).

Type of Review: Revision of a currently approved collection.

Respondents: Business and other for profit entities and State, Local or Tribal Governments.

Number of Respondents and Responses: 429 respondents; 472 responses.

Estimated Time per Response: 4 to 320 hours.

Frequency of Response: On occasion reporting requirement, Annual reporting requirement, One time reporting requirement, Recordkeeping requirement, and third-party disclosure requirement.

Obligation To Respond: Required to obtain or retain benefits. The statutory authority for this information collection is contained in Sections 1, 4(i), 4(j), 201-255, 303(r), 403, 413 of the Communications Act of 1934, as amended, 47 U.S.C. 151, 154(i), 154(j), 201-255, 303(r), 403, 413, and the Cable Landing License Act of 1921, 47 U.S.C. 34-39, and Executive Order No. 10530, Section 5(a) (May 12, 1954) reprinted as amended in 3 U.S.C. 301.

Total Annual Burden: 14,180 hours.

Total Annual Cost: $4,354,490.

Needs and Uses: The Federal Communications Commission (Commission) is requesting that the Office of Management and Budget (OMB) approve revisions to OMB Control No. 3060-0944 to incorporate the requirements adopted by the Commission in the Submarine Cable Report and Order, FCC 25-49. The Submarine Cable Report and Order modernized the Commission's submarine cable rules to facilitate infrastructure deployment, while strengthening national security. Submarine cables serve as the backbone of global communications, carrying 99% of global internet traffic. To support growing demand and address evolving national security threats, the Commission updated its rules and procedures to streamline and improve the timeliness and transparency of its submarine cable licensing process. The Commission also modernized the process by identifying entities that pose a threat to submarine cable systems, such as foreign adversaries, and adopted common sense measures to preclude them from accessing the nation's communications networks. The updates will provide greater certainty for applicants, while making targeted improvements to address national security threats.

Specifically, in the Submarine Cable Report and Order, the Commission clarified when a cable landing license is required under the Cable Landing License Act to provide regulatory certainty to submarine cable owners and operators. The Commission updated application requirements and definitions to provide a clear regulatory framework, while also making targeted adjustments for national security purposes. The Commission modernized the definition of “submarine cable system” to better reflect the range of technological advancements and components of current systems. The Commission adopted foreign adversary definitions to protect the security of submarine cables by presumptively precluding the grant of applications filed by an applicant owned by, controlled by, or subject to the jurisdiction or direction of a foreign adversary and/or identified on the Commission's Covered List, among others; adopting a presumption that denial of an application is warranted where an applicant seeks to land a submarine cable in a foreign adversary country or add a new landing located in a foreign adversary country; and prohibiting licensees from entering into certain IRU or capacity lease arrangements, where it would give a foreign adversary-controlled entity the ability to install, own, or manage Submarine Line Terminal Equipment (SLTE) on a submarine cable landing in the United States.

On September 11, 2025, OMB approved a non-substantive change approval request related to the Submarine Cable Report and Order. On October 27, 2025, the Commission published a notice in the Federal Register announcing the effective date of the rules adopted in the Submarine Cable Report and Order except for amendatory instructions (§ 1.767), 7 (§ 1.768), 10 (§ 1.70002), 11 (§ 1.70003), 12 (§§ 1.70005 and 1.70006), 13 (§ 1.70007), 14 (§§ 1.70008 and 1.70009), 15 (§§ 1.70011 through 1.70013), 16 (§ 1.70016), 17 (§ 1.70017), 18 (§ 1.70020), 19 (§§ 1.70023 and 1.70024), and 22 (§ 43.82).

Relatedly, the Commission transitioned its International Communications Filing System (ICFS) to a new cloud-based platform in June 2025. Following OMB's approval of modifications to this information collection, the Commission will develop and submit for OMB review revised submarine cable application forms and new forms to comply with the new requirements. Until the new and revised electronic forms are approved by OMB, submarine cable applicants and licensees will be required to provide the information required by the Submarine Cable Report and Order by submitting the current application forms and providing additional information as required in an attachment filed in ICFS.

OMB Control Number: 3060-1156.

Title: 47 CFR 43.82, Annual Circuit Capacity Reports.

Form Number: N/A.

Type of Review: Revision of a currently approved collection.

Respondents: Business and other for profit entities and State, Local or Tribal Governments.

Number of Respondents and Responses: 133 respondents; 266 responses.

Estimated Time per Response: 1 to 20 hours.

Frequency of Response: Annual reporting requirement.

Obligation To Respond: Required to obtain or retain benefits. The statutory authority for this information collection is contained in Sections 1, 4(i), 4(j), 201-255, 303(r), 403, 413 of the Communications Act of 1934, as amended, 47 U.S.C. 151, 154(i), 154(j), 201-255, 303(r), 403, 413, and the Cable Landing License Act of 1921, 47 U.S.C. 34-39, and Executive Order No. 10530, Section 5(a) (May 12, 1954) reprinted as amended in 3 U.S.C. 301.

Total Annual Burden: 2,793 hours.

Total Annual Cost: $12,000.

Needs and Uses: The Federal Communications Commission (Commission) seeks approval from the Office of Management and Budget (OMB) for the revised information collection for the annual submarine cable circuit capacity reports required pursuant to the Cable Landing License Act of 1921 and section 43.82 of the Commission's rules. On August 7, 2025, the Commission adopted a Report and Order and Further Notice of Proposed Rulemaking (Submarine Report and Order), FCC 25-49, that modernized the Commission's submarine cable rules, including adopting new rules regarding the annual circuit capacity reports. With respect to the annual submarine cable circuit capacity data collection, the Commission modified the circuit capacity reporting requirements to enhance the quality and usefulness of the data for national security and other purposes, provide greater clarity to licensees and common carriers (Filing Entities) on the reporting requirements for Filing Entities, and eliminated duplicative burdens.

Specifically, in the Submarine Report and Order, the Commission streamlined the rules and eliminated the requirement for licensees to file a Cable Operator Report about the capacity on a cable and instead required Filing Entities to file one report, the Capacity Holder Report, on an individual basis. The Commission retained important information from the Cable Operator Report by integrating and clarifying information about available, planned, and design capacity that was previously reported in the Cable Operator Report. The Commission required Filing Entities to report their capacity on domestic cables, as the lack of this information created a critical gap regarding the ownership and use of capacity on submarine cables regulated by the Commission. The Commission also required Filing Entities to identify, with respect to each sale, lease, or purchase of a fiber pair and/or spectrum, the submarine cable, the U.S. and foreign landing points of the fiber pair and/or spectrum, and the entity that manages the fiber pair and/or spectrum, if different from the entity that owns it. The Commission also required Filing Entities to provide certain information about their submarine line terminal equipment (SLTEs) in the Capacity Holder Report as SLTEs are among the most important equipment associated with the submarine cable system for national security and law enforcement purposes.

Additionally, the Commission allowed any subsidiary, parent entity, or affiliate to file the Capacity Holder Report on behalf of a licensee(s) or common carrier(s), so long as the legal name of the licensee or common carrier is identified in the report and an officer of the licensee or common carrier certifies that the information in the report is accurate and complete. The Commission codified a compliance provision in section 43.82 of the rules. The Commission modified section 43.82 of the rules to allow the Commission to share with the Committee for the Assessment of Foreign Participation in the U.S. Telecommunications Services Sector, Department of Homeland Security, and the State Department the capacity data filed on a confidential basis without the pre-notification requirements of 47 CFR 0.442(d).

The Commission directed its Office of International Affairs to revise the Filing Manual to conform with the changes adopted in the Submarine Cable Report and Order.

Federal Communications Commission.
Marlene Dortch,
Secretary, Office of the Secretary.

[FR Doc. 2026-02545 Filed 2-9-26; 8:45 am]

BILLING CODE 6712-01-P